DEPARTMENT OF ENERGY

Federal Energy Regulatory Commission

[Project No. 2905-035]

Village of Enosburg Falls, Vermont; Notice of Reasonable Period of Time for Water Quality Certification Application

On September 10, 2024, the Vermont Department of Environmental Conservation (Vermont DEC) submitted to the Federal Energy Regulatory Commission (Commission) notice that it received a request for a Clean Water Act section 401(a)(1) water quality certification as defined in 40 CFR 121.5, from the Village of Enosburg Falls, Vermont, in conjunction with the above captioned project on August 30, 2024. Pursuant to section 4.34(b)(5) of the Commission's regulations,¹ we hereby notify Vermont DEC of the following dates.

¹ 18 CFR 4.34(b)(5).

Date of Receipt of the Certification Request: August 30, 2024.

Reasonable Period of Time to Act on the Certification Request: One year, August 30, 2025.

If Vermont DEC fails or refuses to act on the water quality certification request on or before the above date, then the certifying authority is deemed waived pursuant to section 401(a)(1) of the Clean Water Act, 33 U.S.C. 1341(a)(1).

Dated: September 11, 2024.
Debbie-Anne A. Reese,
Acting Secretary.

[FR Doc. 2024-21132 Filed 9-17-24; 8:45 am]

BILLING CODE 6717-01-P